DEPARTMENT OF THE INTERIOR

Bureau of Land Management

[MT-050-1220-PM]

Supplementary Rules for the Lower Madison Recreation Area of the Dillon Field Office; Montana

AGENCY: Bureau of Land Management, Interior.

ACTION: Supplementary rules for the Lower Madison Recreation Area managed by the Dillon Field Office, Bureau of Land Management, Montana.

SUMMARY: In accordance with the Lower Madison Recreation Area Management Plan, BLM publishes overnight camping fees and supplementary rules for all public lands located within the corridor of the lower Madison River, from the Bear Trap Canyon Wilderness to Black's Ford Fishing Access Site. The fees are necessary to help spread some of the costs for managing these lands among those who use them. They will help to recover the cost of managing camping and recreation related resource issues and improve recreation opportunities. The supplementary rules are necessary to maintain the public health and safety, and to protect the environment of the recreation area. They will help stop the spread of noxious weeds, reduce erosion, reduce fire hazards, prevent further damage to cultural resources, provide for public safety, and prevent damage to cultural and natural resources.

EFFECTIVE DATE: May 21, 2004.

ADDRESSES: You may send inquiries or suggestions to the Dillon Field Office, 1005 Selway Drive, Dillon, Montana 59725. You may obtain a copy of the Lower Madison Recreation Area Management Plan and/or Environmental Assessment from the Dillon Field Office, 1005 Selway Drive, Dillon, Montana 59725.

FOR FURTHER INFORMATION CONTACT: Susan James, Outdoor Recreation Planner, BLM Dillon Field Office, P.O. Box 765, Ennis, Montana 59729, 406-682-4082.

SUPPLEMENTARY INFORMATION:

I. Background

In 1996, to address increasing visitor use and impacts on the public lands and declining Federal budgets for recreation, Congress directed the U.S. Department of the Interior to implement the Recreation Fee Demonstration Program. The intent of the program is to help spread some of the costs for managing these lands among those who use them. The Dillon Field Office is one of the BLM fee demonstration pilot sites. All of the fees collected in the Lower Madison are returned to the Dillon Field Office for use in managing the area. Supplementary Rules for the Lower Madison Recreation Area are defined below.

Section 1. What Rules Apply in the Lower Madison Recreation Area?

a. Overnight campers must pay the posted camping fee and display a fee payment receipt at the campsite as proof of payment.

b. Vehicle travel is limited to the road surface of posted, designated routes.

c. The entire area is closed to the discharge or use of firearms, except for the purpose of hunting during upland game, waterfowl, and big game hunting seasons. All developed and designated campgrounds, campsites, trailheads, and recreation access sites, including a safety zone of 50 feet, are closed to discharge of all firearms yearlong. This includes bow and arrow and fireworks.

d. Camping is allowed only in signed, designated sites or within a developed campground. All campsites are limited to a maximum of 3 vehicles per site unless otherwise indicated. Camping is restricted to a maximum of 14 days within any 28-day period, after which a person must move a minimum of 5 miles.

e. Open fires must be completely contained within a permanently installed metal fire grate provided. Construction of rock fire rings, or use of any existing rock fire ring, is prohibited. The area is also closed to the collection of firewood and any chopping or destruction of trees dead or alive.

f. Boat and raft launching is permitted only from developed designated launch sites.

Section 2. Penalties.

On public lands, under section 303(a) of the Federal Land Policy and Management Act of 1976 (43 U.S.C. 1733(a)) and 43 CFR 8360.0-7, any person who violates any of these supplementary rules within the boundaries established in the rules may be tried before a United States Magistrate and fined no more than $1,000 or imprisoned for no more than 12 months, or both. Such violations may also be subject to the enhanced fines provided for by 18 U.S.C. 3571.

Section 3. Authorities

a. The Omnibus Consolidated Rescissions and Appropriation Act of 1996 (Pub. L. 104-134, Sec. 315) provides the authority for BLM to carry out the Recreational Fee Demonstration Program by charging and collecting fees in Pilot Fee Sites.

b. Additional authorities for collecting user fees, implementing special regulations for visitor conduct, and imposing fines for noncompliance with regulations include the Federal Land Policy and Management Act of 1976, Public Law 94-579 (43 U.S.C. 1701 et seq.), the Land and Water Conservation Fund Act of 1965, Public Law 88-578 (16 U.S.C. 460 (1-6a) et seq.), 43 CFR subpart 8372, and 43 CFR 8365.1-6, Supplementary Rules. Violation of any supplementary rule by a member of the public is punishable by a fine not to exceed $1,000 and/or imprisonment not to exceed 12 months. (43 CFR 8360.0-7)

II. Public Participation

The public has been involved in planning for the management of the area. Public review under the National Environmental Policy Act (NEPA) did not generate comments specific to the subject matter of the supplementary rules. Following are steps the Dillon Field Office has taken to involve the public in planning for the area and developing the policies embodied in the supplementary rules:

• The Dillon Field Office held meetings with affiliated land managing agencies and interested user groups. Those agencies and groups include the Montana Department of Natural Resources and Conservation, the Montana Department of Fish, Wildlife and Parks, the Montana Department of Transportation, and Fishing Outfitters Association of Montana.

• In the fall of 1998, the Dillon Field Office began soliciting public input regarding future management of the planning area. At that time, BLM posted notices at the turnoff to the county road and Bear Trap Road requesting the public to contact the Dillion Field Office with comments. On January 28, 2000, BLM mailed a scoping letter to the public and other agencies that had expressed interest in the plan, and held public meetings.

• BLM mailed an Environmental Assessment (EA) on September 3, 2002, with a 30-day comment period, and issued a press release on October 18, 2002. On the same date, BLM mailed another letter to the mailing list of interested persons notifying them of the availability of the EA, and extending the comment period 30 days. BLM received several comments, most favoring the selected alternative. Some comments were outside the scope of the EA.

Further, BLM already has regulatory authority to enforce the provisions in the supplementary rules. Publishing them as supplementary rules has two purposes:

• Providing BLM law enforcement personnel added enforcement capability; and

• Providing the recreating public better and more convenient information as to the applicable requirements.

Therefore, BLM finds good cause to issue these supplementary rules in final form without further opportunity for public comment.

III. Procedural Matters

Executive Order 12866, Regulatory Planning and Review

These supplementary rules are not a significant regulatory action and are not subject to review by Office of Management and Budget under Executive Order 12866. These supplementary rules will not have an effect of $100 million or more on the economy. They are not intended to affect commercial activity, but contain rules of conduct for public use of certain recreational areas. They will not adversely affect, in a material way, the economy, productivity, competition, jobs, the environment, public health or safety, or state, local, or tribal governments or communities. These supplementary rules will not create a serious inconsistency or otherwise interfere with an action taken or planned by another agency. The supplementary rules do not alter the budgetary effects of entitlements, grants, user fees, or loan programs or the right or obligations of their recipients; nor do they raise novel legal or policy issues.

Clarity of the Supplementary Rules

Executive Order 12866 requires each agency to write regulations that are simple and easy to understand. We invite your comments on how to make these supplementary rules easier to understand, including answers to questions such as the following:

(1) Are the requirements in the supplementary rules clearly stated?

(2) Do the supplementary rules contain technical language or jargon that interferes with their clarity?

(3) Does the format of the supplementary rules (grouping and order of sections, use of headings, paragraphing, etc.) air or reduce their clarity?

(4) Would the supplementary rules be easier to understand if they were divided into more (but shorter) sections?

(5) Is the description of the supplementary rules in the SUPPLEMENTARY INFORMATION section of this preamble helpful in understanding the supplementary rules? How could this description be more helpful in making the supplementary rules easier to understand?

Please send any comments you have on the clarity of the supplementary rules to the address specified in the ADDRESSES section.

National Environmental Policy Act

The BLM has prepared an environmental assessment (EA) and has found that the supplementary rules would not constitute a major Federal action significantly affecting the quality of the human environment under section 102(2)(C) of the National Environmental Policy Act of 1969 (NEPA), 42 U.S.C. 4332(2)(C). The supplementary rules merely contain rules of conduct for certain recreational lands in Montana. These rules are designed to protect the environment and the public health and safety. A detailed statement under NEPA is not required. BLM has placed the EA and the Finding of No Significant Impact (FONSI) on file in the BLM Administrative Record at the address specified in the ADDRESSES section.

Regulatory Flexibility Act

Congress enacted the Regulatory Flexibility Act (RFA) of 1980, as amended, 5 U.S.C. 601-612, to ensure that Government regulations do not unnecessarily or disproportionately burden small entities. The RFA requires a regulatory flexibility analysis if a rule would have a significant economic impact, either detrimental or beneficial, on a substantial number of small entities. The supplementary rules do not pertain specifically to commercial or governmental entities of any size, but to public recreational use of specific public lands. Therefore, BLM has determined under the RFA that these supplementary rules would not have a significant economic impact on a substantial number of small entities.

Small Business Regulatory Enforcement Fairness Act (SBREFA)

These supplementary rules do not constitute a “major rule” as defined at 5 U.S.C. 804(2). Again, the supplementary rules merely contain rules of conduct for recreational use of certain public lands. The supplementary rules have no effect on business, commercial or industrial, use of the public lands.

Unfunded Mandates Reform Act

These supplementary rules do not impose an unfunded mandate on state, local, or tribal governments or the private sector of more than $100 million per year; nor do these supplementary rules have a significant or unique effect on state, local, or tribal governments or the private sector. The supplementary rules do not require anything of state, local, or tribal governments. Therefore, BLM is not required to prepare a statement containing the information required by the Unfunded Mandates Reform Act (2 U.S.C. 1531 et seq.)

Executive Order 12630, Governmental Actions and Interference With Constitutionally Protected Property Rights (Takings)

The supplementary rules do not represent a government action capable of interfering with constitutionally protected property rights. The supplementary rules do not address property rights in any form, and do not cause the impairment of anybody's property rights. Therefore, the Department of the Interior has determined that the supplementary rules would not cause a taking of private property or require further discussion of takings implications under this Executive Order.

Executive Order 13132, Federalism

The supplementary rules will not have a substantial direct effect on the states, on the relationship between the national government and the states, or on the distribution of power and responsibilities among the various levels of government. The supplementary rules affect land in only one state, Montana, and do not address jurisdictional issues involving the state government. Therefore, in accordance with Executive Order 13132, BLM has determined that these supplementary rules do not have sufficient Federalism implications to warrant preparation of a Federalism Assessment.

Executive Order 12988, Civil Justice Reform

Under Executive Order 12988, the Office of the Solicitor has determined that these supplementary rules will not unduly burden the judicial system and that they meet the requirements of sections 3(a) and 3(b)(2) of the Order.

Consultation and Coordination With Indian Tribal Governments (E.O. 13175)

In accordance with Executive Order 13175, we have found that this final rule does not include policies that have tribal implications. The supplementary rules do not affect lands held for the benefit of Indians, Aleuts, or Eskimos.

Paperwork Reduction Act

These supplementary rules do not contain information collection requirements that the Office of Management and Budget must approve under the Paperwork Reduction Act, 44 U.S.C. 3501 et seq.

Dated: April 14, 2004.
Howard A. Lemm,
Acting State Director.

[FR Doc. 04-8991 Filed 4-20-04; 8:45 am]

BILLING CODE 4310-DN-M